INTERNATIONAL TRADE COMMISSION

[Investigation No. 731-TA-1563 (Final)]

Raw Honey From Ukraine; Termination of Investigation

AGENCY: United States International Trade Commission.

ACTION: Notice.

SUMMARY: On March 24, 2022, counsel for petitioners, the American Honey Producers Association and the Sioux Honey Association, filed with the Department of Commerce and the Commission a withdrawal of their petition regarding imports of raw honey from Ukraine. Accordingly, the antidumping duty investigation concerning raw honey from Ukraine (Investigation No. 731-TA-1563 (Final)) is terminated.

DATES: March 31, 2022.

FOR FURTHER INFORMATION CONTACT: Andres Andrade (202-205-2078), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

Authority: This investigation is being terminated under authority of title VII of the Tariff Act of 1930 and pursuant to 19 U.S.C. 1673c(a)(1)(A) and section 207.40(a) of the Commission's rules (19 CFR 207.40(a)). This notice is published pursuant to section 201.10 of the Commission's rules (19 CFR 201.10).

By order of the Commission.
Issued: April 1, 2022.
Lisa Barton,
Secretary to the Commission.

[FR Doc. 2022-07351 Filed 4-6-22; 8:45 am]

BILLING CODE 7020-02-P